DEPARTMENT OF HOUSING AND URBAN DEVELOPMENT

[Docket No. FR-4770-N-01]

Notice of Availability of Revised HUD Occupancy Handbook and Request for Comments

AGENCY: Office of the Assistant Secretary for Housing—Federal Housing Commissioner, HUD.

ACTION: Notice of availability and request for comments.

SUMMARY: The Department of Housing and Urban Development is revising HUD Handbook 4350.3, Occupancy Requirements of Subsidized Multifamily Housing Programs. This notice advises the public that HUD will make available a copy of its revised Occupancy Handbook on the HUD website and invites interested parties to comment on HUD's revised Occupancy Handbook.

DATES: Comment Due Date: June 4, 2002.

ADDRESSES: A copy of HUD's revised Occupancy Handbook can be obtained via the World Wide Web at http://www.hud.gov/offices/hsg/hsgmulti.cfm or by calling the Multifamily Housing Clearinghouse at 1-800-685-8470. Interested persons may also submit comments regarding this Notice to the Department of Housing and Urban Development, Attention: Handbook 4350.3 Comments, Room 6134, 451 Seventh Street, SW., Washington, DC 20410. Communications should refer to the above docket number and title. Comments may also be submitted by e-mail to: occupancy_handbook_ comments@HUD.gov.

FOR FURTHER INFORMATION CONTACT: Dewayne Kimbrough, Director, Office of Housing, Grant and Housing Assistance Field Support Division, 451 Seventh Street, SW., Washington, DC 20410-2000; telephone number (202) 708-3000. A telecommunications device (TDD) for hearing and speech impaired persons is available at (202) 708-0455. (These are not toll-free numbers.)

SUPPLEMENTARY INFORMATION: The Department of Housing and Urban Development is revising HUD Handbook 4350.3, Occupancy Requirements of Subsidized Multifamily Housing Programs, as part of the Department's Rental Housing Integrity Improvement Project (RHIIP). RHIIP is a Secretarial initiative designed to reduce subsidy payment errors and to ensure that the right benefits are going to the right person. This handbook provides guidance for owners, management agents, residents, contract administrators, and HUD staff on the admission and continued occupancy for approximately 1.4 million households in project based subsidized housing units.

In order to improve the quality of HUD's revised Occupancy Handbook, HUD has determined to make copies available for public comment. Copies of HUD's revised Occupancy Handbook will be available for a period of five (5) business days beginning May 20, 2002, at the HUD website, http://www.hud.gov/offices/hsg/hsgmulti.cfm. Members of the public without access to the World Wide Web may obtain a copy of the revised Occupancy Handbook by contacting the Multifamily Housing Clearinghouse at 1-800-685-8474.

Public input is solicited on the overall scope and direction of the revised HUD Occupancy Handbook. Interested members of the public may submit comments either electronically or by overnight mail to the addresses listed in the Addresses section above. To be most helpful, comments must be identified by specific page and paragraph references and must be received by June 4, 2002.

Dated: May 14, 2002.
John Weicher,
Assistant Secretary for Housing-Federal Housing Commissioner.

[FR Doc. 02-12598 Filed 5-17-02; 8:45 am]

BILLING CODE 4210-27-P